DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: Healthcare Integrity and Protection Data Bank for Final Adverse Information on Health Care Providers, Suppliers, and Practitioners (OMB No. 0915-0239)—Revision

Section 221(a) of the Health Insurance Portability and Accountability Act (HIPAA) of 1996 specifically directs the Secretary to establish a national health care fraud and abuse data collection program for the reporting and disclosure of certain final adverse actions taken against health care providers, suppliers, and practitioners. A final rule was published October 26, 1999 in the Federal Register to implement the statutory requirements of section 1128E of the Social Security Act (The Act) as added by Section 221 (a) of HIPAA. The Act requires the Secretary to implement the national healthcare fraud and abuse data collection program. This data bank is known as the Healthcare Integrity and Protection Data Bank (HIPDB). It contains the following types of information: (1) Civil judgments against a health care provider, supplier, or practitioner in Federal or State court related to the delivery of a health care item or service; (2) Federal or State criminal convictions against a health care provider, supplier, or practitioner related to the delivery of a health care item or service; (3) Actions by Federal or State agencies responsible for the licensing and certification of health care providers, suppliers, or practitioners (4) Exclusion of a health care provider, practitioner or supplier from participation in Federal or State health care programs; and (5) Any other adjudicated actions or decisions that the Secretary shall establish by regulations. Access to this data bank is limited to Federal and State Government agencies and health plans.

This request is for a revision of reporting and querying forms previously approved on March 15, 2001. The reporting forms and the request for information forms (query forms) must be accessed, completed, and submitted to the HIPDB electronically through the HIPDB Web site at www.npdb-hipdb.com. All reporting and querying is performed through this secure Web site. Due to overlap in requirements for the HIPDB, some of the National Practitioner Data Bank's burden has been subsumed under the HIPDB.

Estimates of burden are as follows:

Regulation citation | No. of respondents | Frequency of responses | Minutes per response | Total burden hours
61.6 Errors & Omissions | 172 | 4.3 | 15 | 185 ¹
61.6(b) Revisions to Actions | 107 | 23.25 | 30 | 1,244
61.7 Licensure Actions: Reporting by State licensing authorities | 275 | 60.6 | 45 | 12,512
61.8 Reporting of State Criminal Convictions | 54 | 13 | 45 | 525
61.9 Reporting of Civil Judgments | 62 | 8 | 45 | 375
61.11 Reporting of adjudicated actions/decisions | 410 | 12.5 | 45 | 3,845
61.12 Access to data: State Licensure Boards | 1000 | 67.5 | 5 | 5,623
State Certification Agencies | 16 | 6 | 5 | 8
States/district attorneys & law enforcement | 2000 | 25 | 5 | 3,749
State Medicaid Fraud Units | 47 | 50 | 5 | 196
Health plans | 2,841 | 263.76 | 5 | 62,422
Health care providers, suppliers, practitioners (self-query) | 37,925 | 1 | 25 | 15,800
Entity Registration—Initial | 2500 | 1 | 60 | 2,500
Entity Registration—Update | 451 | 1 | 5 | 38
Authorized Agent Designation—Initial | 100 | 1 | 15 | 16
Authorized Agent Designation-Update | 250 | 1 | 5 | 62
Disputed Reports-Secretarial Review | 459 | 1 | 5 | 38
Request for Secretarial Review | 43 | 1 | 480 | 344
Account Discrepancy Report | 1,000 | 1 | 15 | 250
Electronic Funds Transfer Authorization | 400 | 1 | 15 | 100
Entity reactivation | 450 | 1 | 60 | 450
Total |  |  |  | 110,282
Estimates in this column that fall below or above a full hour are rounded to the nearest hour.

Send comments to Susan Queen, Ph.D., HRSA Reports Clearance Officer, Room 16C-17, Parklawn Building, 5600 Fishers Lane, Rockville, Maryland 20853, (301) 443-1129. Written comments should be received within 60 days of this notice.

Dated: January 15, 2004.
Tina M. Cheatham,
Acting Director, Division of Policy Review and Coordination.

[FR Doc. 04-1384 Filed 1-22-04; 8:45 am]

BILLING CODE 4165-15-P